DEPARTMENT OF ENERGY
Federal Energy Regulatory Commission
[Project No. 2233-043 Oregon]
Portland General Electric Company; Notice of Availability of Draft Environmental Assessment
January 23, 2004.
In accordance with the National Environmental Policy Act of 1969 and the Federal Energy Regulatory Commission's (Commission) regulations, 18 CFR part 380 (Order No. 486, 52 F.R. 47897), the Office of Energy Projects has reviewed the application for license for the Willamette Falls Hydroelectric Project, located on the Willamette River near Oregon City, Oregon, and has prepared a Draft Environmental Assessment (DEA) for the project.
The DEA contains the staff's analysis of the potential environmental impacts of the project and concludes that licensing the project, with appropriate environmental protective measures, would not constitute a major Federal action that would significantly affect the quality of the human environment.

A copy of the DEA is available for review at the Commission in the Public Reference Room or may be viewed on the Commission's Web site at http://www.ferc.gov using the “eLibrary” link. Enter the docket number P-2233 to access the document. For assistance, contact FERC Online Support at FERCOnlineSupport@ferc.gov or toll-free at 1-866-208-3676, or for TTY, (202) 502-8659.
You may also register online at http://www.ferc.gov/docs-filing/esubscription.asp to be notified via email of new filings and issuances related to this or other pending projects. For assistance, contact FERC Online Support.

Any comments should be filed within 45 days from the date of this notice and should be addressed to Magalie R. Salas, Secretary, Federal Energy Regulatory Commission, 888 First Street, NE., Washington, DC 20426. Please affix Project No. P-2233 to all comments. Comments may be filed electronically via the Internet in lieu of paper. The Commission strongly encourages electronic filings. See 18 CFR 385.2001(a) (1)(iii) and the instructions on the Commission's Web site (http://www.ferc.gov) under the “e-Filing” link.

FOR FURTHER INFORMATION CONTACT:
John Blair (202) 502-6092.

Magalie R. Salas,
Secretary.

[FR Doc. E4-160 Filed 01-29-04; 8:45 am]
BILLING CODE 6717-01-P